DEPARTMENT OF HOMELAND SECURITY

Coast Guard

DEPARTMENT OF TRANSPORTATION

Maritime Administration

[USCG-2004-16860]

Gulf Landing LLC Liquefied Natural Gas Deepwater Port License Application; Correction

AGENCY: Coast Guard, DHS, Maritime Administration, DOT.

ACTION: Notice of Application; correction.

SUMMARY: On January 22, 2004, the Coast Guard published a notice of application for the Gulf Landing LLC Liquefied Natural Gas Deepwater Port, with request for comments in the Federal Register, which inadvertently contained an error in the Summary of the application section. This document corrects the error.

FOR FURTHER INFORMATION CONTACT: Lieutenant Commander Kevin Tone, Vessel and Facility Operating Standards Division (G-MSO-2), Coast Guard, telephone 202-267-0226.

Correction

In the Federal Register of January 22, 2004, in FR Doc. 04-1276, on page 3166, in the third column, correct the first and second lines to read “West Cameron” instead of “South Cameron.”

Dated: February 20, 2004.
Joseph J. Angelo,
Director of Standards, Marine Safety, Security, and Environmental Protection.
Raymond R. Barberesi,
Director, Office of Ports and Domestic Shipping, U.S. Maritime Administration.

[FR Doc. 04-4396 Filed 2-26-04; 8:45 am]

BILLING CODE 4910-15-P